DEPARTMENT OF LABOR

Office of the Secretary of Labor

29 CFR Part 15

Employment and Training Administration

20 CFR Parts 638 and 670

RIN 1290-AA25

Administrative Claims Under the Federal Tort Claims Act and Related Statutes

AGENCY: Office of the Secretary, Employment and Training Administration, Department of Labor.

ACTION: Withdrawal of proposed rule.

SUMMARY: With this document, the Department of Labor (DOL) is withdrawing its proposed rule that accompanied its direct final rule revising the regulations governing administrative claims under the Federal Tort Claims Act and related statutes.

DATES: Effective April 2, 2013 the proposed rule published on April 13, 2012 (77 FR 22236), is withdrawn.

FOR FURTHER INFORMATION CONTACT: Catherine P. Carter, Counsel for Claims and Compensation, Office of the Solicitor, U.S. Department of Labor, Room S-4325, 200 Constitution Avenue NW., Washington, DC 20210, Telephone: 202-693-5320 (this is not a toll-free number). Individuals with hearing or speech impairments may access this telephone number via TTY by calling the toll-free Federal Information Relay Service at 1-800-877-8339.

SUPPLEMENTARY INFORMATION: On April 13, 2012, DOL published a direct final rule (77 FR 22204) and concurrent notice of proposed rulemaking, proposing to amend the regulations governing administrative claims under the Federal Tort Claims Act and related statutes. In both the direct final rule and notice of proposed rulemaking, DOL explained that if no significant adverse comments were received to the notice of proposed rulemaking, DOL would withdraw the proposed rule and the direct final rule would become effective on July 12, 2012 without further notice. DOL has received no comments regarding either the direct final rule or the notice of proposed rulemaking. Accordingly, DOL is not proceeding with the proposed rule and is withdrawing it from the rulemaking process. DOL is also confirming the effective date of the direct final rule as July 12, 2012.

Signed at Washington, DC, the 28th of February, 2013.
M. Patricia Smith,
Solicitor of Labor.

[FR Doc. 2013-07525 Filed 4-1-13; 8:45 am]

BILLING CODE 4510-23-P